SMALL BUSINESS ADMINISTRATION

[Declaration of Disaster #3333]

State of Mississippi; (Amendment #1)

In accordance with a notice received from the Federal Emergency Management Agency, dated April 27, 2001, the above-numbered Declaration is hereby amended to include Leake, Neshoba and Pontotoc Counties in the State of Mississippi as disaster areas caused by flooding and severe storms occurring between April 3-5, 2001.

In addition, applications for economic injury loans from small businesses located in Calhoun, Kemper, Lafayette, Lauderdale, Newton and Scott Counties in the State of Mississippi may be filed until the specified date at the previously designated location. Any counties contiguous to the above named primary counties and not listed here have been previously declared.

All other information remains the same, i.e., the deadline for filing applications for physical damage is June 17, 2001 and for economic injury the deadline is January 17, 2002.

(Catalog of Federal Domestic Assistance Program Nos. 59002 and 59008.)
Dated: April 27, 2001.
James E. Rivera,
Acting Associate Administrator for Disaster Assistance.

[FR Doc. 01-11248 Filed 5-3-01; 8:45 am]

BILLING CODE 8025-01-P